DEPARTMENT OF TRANSPORTATION

Federal Railroad Administration

[Docket Number FRA-2023-0004]

Notice of Application for Approval of Discontinuance or Modification of a Railroad Signal System

Under part 235 of title 49 Code of Federal Regulations (CFR) and 49 U.S.C. 20502(a), this document provides the public notice that by letter dated January 9, 2023, Union Pacific Railroad Company (UPRR) petitioned the Federal Railroad Administration (FRA) seeking approval to discontinue or modify a signal system. FRA assigned the petition Docket Number FRA-2023-0004.

Specifically, UPRR requests a suspension of block signals between CP Reynard (F 417) and CP Phil (F 430) on the Winnemucca Subdivision, near Gerlach, Nevada. UPRR explains that this suspension would be temporary, and UPRR would later request to “remove [Centralized Traffic Control (CTC)] limits and replace with [Track Warrant Control (TWC)] limits through the same area.” In support of its request, UPRR states that its dispatching software cannot grant track warrants through the subject area, but when they can grant track warrants, UPRR will notify FRA prior to implementation of TWC limits. UPRR requests the suspension of block signals for up to six months from the date of approval. UPRR explains that the reason for the proposed suspension is that UPRR “has an uncurable situation with contaminated track conditions that will not allow the signal system to function properly.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by February 24, 2023 will be considered by FRA before final action is taken. Comments received after that date will be considered if practicable. FRA notes that it may consider the application before the end of this comment period, but any final action would be contingent on subsequent consideration of any comments that may be received in this docket.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-01451 Filed 1-24-23; 8:45 am]

BILLING CODE 4910-06-P